FEDERAL COMMUNICATIONS COMMISSION

47 CFR Part 73

[DA No. 00-1207; MM Docket No. 00-95, RM-9887]

Radio Broadcasting Services; Live Oak, Fl

AGENCY: Federal Communications Commission.

ACTION: Proposed rule.

SUMMARY: This document requests comments on a petition for rule making filed by SSR Communications Incorporated requesting the allotment of Channel 259A at Live Oak, Florida, as the community's third local FM broadcast service. Channel 259A can be allotted to Live Oak with a site restriction 11.6 kilometers (7.2 miles) southeast of the community at coordinates 30-13-12 and 82-54-00.

DATES: Comments must be filed on or before July 24, 2000, and reply comments on or before August 8, 2000.

ADDRESSES: Federal Communications Commission, Washington, DC 20554. In addition to filing comments with the FCC, interested parties should serve the petitioner, as follows: Matthew K. Wesolowski, SSR Communications Incorporated, 5270 West Jones Bridge Road, Norcross, Georgia 30092-1628.

FOR FURTHER INFORMATION CONTACT: Kathleen Scheuerle, Mass Media Bureau, (202) 418-2180.

SUPPLEMENTARY INFORMATION: This is a summary of the Commission's Notice of Proposed Rule Making, MM Docket No. 00-95, adopted May 24, 2000, and released June 2, 2000. The full text of this Commission decision is available for inspection and copying during normal business hours in the Commission's Reference Center, Washington, DC. The complete text of this decision may also be purchased from the Commission's copy contractors, International Transcription Services, Inc., 1231 20th Street, NW., Washington, DC 20036, (202) 857-3800, facsimile (202) 857-3805.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

Federal Communications Commission.
John A. Karousos,
Chief, Allocations Branch, Policy and Rules Division, Mass Media Bureau.

[FR Doc. 00-15260 Filed 6-15-00; 8:45 am]

BILLING CODE 6712-01-P